DEPARTMENT OF AGRICULTURE

Deschutes Provincial Interagency Executive Committee (PIEC), Advisory Committee

AGENCY: Forest Service, USDA.

ACTION: Notice of meeting.

SUMMARY: The Deschutes PIEC Advisory Committee will meet from 9 a.m. to 12 p.m. on June 9, 2000 at Red Oaks Square, 1230 NE. 3rd, Suite A-262, Bend, Oregon. Agenda items include PAC comments for the Interior Columbia Basin Ecosystem Management Project, Info Sharing Around the Province, and a Public Forum from 11:30 a.m. till 12 p.m. All Deschutes Province Advisory Committee Meetings are open to the public.

FOR FURTHER INFORMATION CONTACT: Mollie Chaudet, Province Liaison, USDA, Bend-Ft. Rock Ranger District, 1230 N.E. 3rd., Bend, OR, 97701, Phone (541) 383-4769.

Dated: May 23, 2000.
Rebecca Heath,
Acting Deschutes National Forest Supervisor.

[FR Doc. 00-13500 Filed 5-30-00; 8:45 am]

BILLING CODE 3410-11-M